ENVIRONMENTAL PROTECTION AGENCY

[EPA-HQ-OPPT-2016-0713; FRL-9965-53]

Nominations to the Augmented Science Advisory Committee on Chemicals (SACC); Request for Comments

AGENCY: Environmental Protection Agency (EPA).

ACTION: Notice.

SUMMARY: This document provides the names and affiliations of additional candidates currently under consideration for appointment to the Science Advisory Committee on Chemicals (SACC). The purpose of the SACC is to provide independent advice and expert consultation at the request of the EPA Administrator with respect to the scientific and technical aspects of risk assessments, methodologies, and pollution prevention measures or approaches. After further consideration of the objectives and scope of SACC activities, EPA is considering additional candidates for SACC membership from the August 26, 2016 Federal Register notice pool of requested nominees. These additional candidates are named in this notice. The Agency is also considering the 29 candidates for membership previously identified in the December 9, 2016 Federal Register notice. Comments that were previously received on the 29 candidates will also be considered. The Agency, at this time, anticipates selecting approximately six additional SACC members with specific expertise and perspectives representing industry, labor, animal protection, government, public health, and public interest groups. Public comments on the candidates are invited as they will be used to assist the Agency in selecting the additional chartered committee members.

DATES: Comments must be received on or before September 5, 2017.

ADDRESSES: Submit your comments, identified by Docket Identification (ID) Number EPA-HQ-OPPT-2016-0713, by one of the following methods:

• Federal eRulemaking Portal: https://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Tamue Gibson, DFO, Office of Science Coordination and Policy (7201M), Environmental Protection Agency, 1200 Pennsylvania Ave. NW., Washington, DC 20460-0001; telephone number: (202) 564-7642; email address: gibson.tamue@epa.gov.

SUPPLEMENTARY INFORMATION:

I. General Information

A. Does this action apply to me?

This action is directed to the public in general. This action may be of interest to those involved in the manufacture, processing, distribution, disposal, and/or have other interests in the assessment of risks involving chemical substances and mixtures. Since other entities may also be interested, the Agency has not attempted to describe all the specific entities that may be affected by this action.

B. What is EPA's authority?

This committee is established under FACA, 5 U.S.C. Appendix 2, and pursuant to the Frank R. Lautenberg Chemical Safety for the 21st Century Act, 2016.

II. Background

The SACC was established under FACA section 9(a), and pursuant to section 2526(o) of the Frank R. Lautenberg Chemical Safety for the 21st Century Act (LCSA), to provide advice and recommendations on the scientific basis for risk assessments, methodologies, and pollution prevention measures or approaches. On January 17, 2017, the EPA Administrator appointed 18 expert members from diverse backgrounds, professional experiences, and perspectives that would contribute to the breadth and balance of scientific viewpoints on the committee. These members have expertise and perspectives representing government, labor, public health, public interest, animal protection, industry, and other groups.

EPA has decided to increase the membership of the SACC to approximately 24 members to better address the objectives and scope of activities for the committee. These members will serve as Special Government Employees (SGEs) or Regular Government Employees (RGEs).

The purpose of the SACC is to provide independent advice and expert consultation at the request of the EPA Administrator with respect to the scientific and technical aspects of risk assessments, methodologies, and pollution prevention measures or approaches. After further consideration of the objectives and scope of SACC activities, EPA is considering additional candidates for SACC membership from the August 26, 2016 Federal Register notice pool of requested nominees (81 FR 58925) (FRL-9950-66). These additional candidates are named in this notice. The Agency is also considering the 29 candidates for membership previously identified in the December 9, 2016 Federal Register notice (Docket ID Number: EPA-OPPT-2016-0713; (81 FR 89092) (FRL-9956-17)). The written comment period for this announcement closed on January 9, 2017. The Agency, at this time, anticipates selecting approximately six additional SACC members with specific expertise and perspectives representing industry, labor, animal protection, government, public health, and public interest groups. Public comments on the candidates are invited as they will be used to assist the Agency in selecting the additional chartered committee members.

III. Qualifications of Members

Members are scientists who have sufficient professional qualifications, including training and experience, to provide expert comments on the scientific and technical aspects of risk assessments, methodologies, and pollution prevention measures or approaches. No persons shall be ineligible to serve on the Committee by reason of their membership on any other advisory committee to a Federal department or agency, or their employment by a Federal department or agency (except the EPA). The Administrator appoints individuals to serve on the Committee for staggered terms of 1 to 3 years. Panel members are subject to the provisions of 40 CFR part 3, subpart F, Standards of Conduct for Special Government Employees, which include rules regarding conflicts of interest. Each nominee selected by the Administrator, before being formally appointed, is required to submit a confidential statement of employment and financial interests, which shall fully disclose, among other financial interests, the nominee's sources of research support, if any.

IV. Applicability of Existing Regulations

EPA's existing regulations applicable to Special Government Employees, which include advisory committee members, will also apply to the members of the SACC. These regulations appear in 40 CFR part 3, subpart F.

V. Process of Obtaining Nominees

On August 26, 2016, EPA published a Federal Register notice (81 FR 58925) (FRL-9950-66) providing notice of intent to establish the SACC, describing its purpose, and announcing the opportunity for the public to provide nominations for the Agency's consideration. The nomination period was open for 45 days and ended on October 11, 2016. In response, the Agency received approximately 100 nominees.

EPA considered the following criteria to select candidates from these nominations: Interest and availability to participate in committee meetings, absence of financial conflicts of interest, absence of the appearance of a loss of impartiality, scientific expertise, and backgrounds and experiences that would contribute to the diversity of scientific viewpoints on the committee, including professional experiences in government, labor, public health, public interest, animal protection, industry, or other groups.

Based on these criteria, EPA has identified 64 additional candidates for further consideration for membership on the SACC. EPA will also further consider the 29 candidates identified in the December 9, 2016 Federal Register Notice, as well as the public comments that were previously received on the 29 candidates. The following are the names (listed alphabetically, last name first) and professional affiliations of the 64 additional candidates. Brief biographical sketches for these candidates are posted on the EPA Web site at https://www.epa.gov/tsca-peer-review.

1. Allen, David, Ph.D., Vice President, Science and Strategy, Integrated Laboratory Systems, Inc., Raleigh, NC.

2. Barton, Charles, Ph.D., Manager, Toxicology and Risk Assessment, Valspar Corporation, Sesickley, PA.

3. Becker, Richard, Ph.D., Senior Toxicologist, American Chemical Council, Washington, DC.

4. Belcher, Scott, Ph.D., Research Professor, Department of Biological Sciences, North Carolina State University, Raleigh, NC.

5. Bennett, Steven, Ph.D., Senior Director, Scientific Affairs & Sustainability, Consumer Specialty Products Association, Washington, DC.

6. Benvenuto, Mark, Ph.D., Professor and Chair, Chemistry and Biochemistry, University of Detroit-Mercy, Detroit, MI.

7. Blystone, Sheri, Ph.D., Director, Regulatory Affairs & Product Safety, SNF Holding Company.

8. Chui, Weihsueh, Ph.D., Professor, Department of Veterinary Integrative Biosciences, Texas A&M University, College Station, TX.

9. Congleton, Johanna, Ph.D., Senior Scientist/Toxicologist, Environmental Working Group, Washington, DC.

10. Coots, Robert, Ph.D., Manager, R&D, Colonial Chemical, Inc., New Hope, TN.

11. Dempsey, Susan, M.S., Human Health/Ecological Risk Assessor, Nebraska Department of Health and Human Services, Lincoln, NE.

12. Edstrom, Robert, Ph.D., Chief Toxicologist, Minnesota Department of Transportation, Office of Environmental Stewardship, St. Paul, MN.

13. Faustman, Elaine, Ph.D., Professor, Environmental and Occupational Health Sciences, University of Washington, Seattle, WA.

14. Fowle III, John, Ph.D., Principal, Science To Inform, LLC, Pittsboro, NC.

15. Garcia, Kristina, P.G., Environmental Compliance Program Manager, Office of Watershed Protection, Atlanta Department of Watershed Management, Atlanta, GA.

16. Gordon, Terry, Ph.D., Professor, Department of Environmental Medicine, New York University School of Medicine, New York, NY.

17. Hartung, Thomas, Ph.D., Professor, Molecular Microbiology and Immunology, Department of Environmental Health Sciences, Johns Hopkins University, Baltimore, MD.

18. Heiger-Bernays, Wendy, Ph.D., Associate Professor, Department of Environmental Health, School of Public Health, Boston University, Boston, MA.

19. Henderson, Rogene, Ph.D., Senior Scientist (Emeritus), Lovelace Respiratory Research Institute, Albuquerque, NM.

20. Higgs, Megan, Ph.D., Statistician, Neptune and Company, Lakewood, CO.

21. Hollis, Adrienne, Ph.D., JD, Director, Federal Policy, WE ACT For Environmental Justice, Washington, DC.

22. Holsapple, Michael, Ph.D., Director and Endowed Chair, Center for Research on Ingredient Safety, Michigan State University, East Lansing, MI.

23. Jaeger, Calvin, Ph.D., Senior Security Systems Risk Analyst, Sandia National Laboratories (retired), Albuquerque, NM.

24. Janssen, Sarah, MD, Ph.D., Assistant Clinical Professor, Division of Occupational Medicine, University of California-San Francisco, San Francisco, CA.

25. Janus, Erik, M.S., President, M³ Technical and Regulatory Services, LLC, Shepherdstown, WV.

26. Johnson, Mark, Ph.D., Director of Toxicology, United States Army Public Health Center, Aberdeen Proving Ground, MD.

27. Kester, Janet, Ph.D., Toxicologist, New Fields, Wentzville, MO.

28. Lohmann, Rainer, Ph.D., Professor, Oceanography, Graduate School of Oceanography, University of Rhode Island, Kingston, RI.

29. Luderer, Ulrike, M.D., Ph.D., Professor, Department of Medicine, Division of Occupational and Environmental Medicine, University of California-Irvine, Irvine, CA.

30. Maffini, Maricel, Ph.D., Private Contractor (former Senior Scientist, Health and Environment Program, Natural Resources Defense Council), Washington, DC.

31. Marlborough III, Sidney, Ph.D., Senior Environmental Toxicologist, Noble Energy, Houston, TX.

32. McFadden, Roger, Chief Science and Sustainability Officer, Replenish, LLC, Portland, OR.

33. McLeod, Brittany, Environmental Divisional Manager, Ormantine USA, Palm Bay, FL.

34. McPartland, Jennifer, Ph.D., Senior Scientist, Health Program, Environmental Defense Fund, Washington, DC.

35. Mitchell Mark, M.D., M.P.H., Principal, Mitchell Environmental Health Associates, Hartford, CT.

36. Mitchelmore, Carys, Ph.D., Associate Professor, University of Maryland Center for Environmental Science, College Park, MD.

37. Nelson, William, Ph.D., Branch Chief, Environmental Risk Assessment Branch, United States Army Corps of Engineers, Vicksburg, MS.

38. Nidel, Christopher, Esquire, President, Nidel & Nace, PLLC, Washington, DC.

39. Noce, Anthony, Consultant, Haley & Aldrich, Inc., Burlington, MA.

40. Orlov, Alexander, Ph.D., Associate Professor, Materials Science and Chemical Engineering Department, Stony Brook University, Stony Brook, NY.

41. Pennell, Michael, Ph.D., Associate Professor, Division of Biostatistics, College of Public Health, The Ohio State University, Columbus, OH.

42. Plopper, Charles, Ph.D., Professor Emeritus, Department of Anatomy, Physiology and Cell Biology, University of California-Davis, Davis, CA.

43. Pope, Carey, Ph.D., Professor and Chair in Toxicology, Oklahoma State University, Stillwater, OK.

44. Portier, Christopher, Ph.D., M.S., Private Consultant, Thun, Switzerland.

45. Post, Gloria, Ph.D., Research Scientist, Division of Science, New Jersey Department of Environmental Protection, Trenton, NJ.

46. Rawlins, James, Ph.D., Associate Professor, Polymer Science and Engineering, University of Southern Mississippi, Hattiesburg, MS.

47. Rudel, Ruthann, M.S., Director of Research, Silent Spring Institute, Washington, DC.

48. Singla, Veena, Ph.D., Scientist, Health & Environment Program, Natural Resource and Defense Council, San Francisco, CA.

49. Solomon, Gina, M.D., M.P.H., Deputy Secretary for Science and Health, California Environmental Protection Agency, Sacramento, CA.

50. Stone, Alex, Sc.D., Chemist, Hazardous Waste and Toxics Reduction Program, Washington Department of Ecology, Lacy, WA.

51. Swartzendruber, Philip, Ph.D., Air Quality Scientist, University of Washington, Seattle, Washington.

52. Tickner, Joel, Ph.D., Associate Professor, Department of Community Health and Sustainability, University of Massachusetts-Lowell, Lowell, MA.

53. Trejo, Nidia, M.S., Research Intern, Ithaca Waste Water Treatment Facility, Ithaca, NY.

54. Weiss, Judith, Ph.D., Professor (Emerita), Department of Biological Sciences, Rutgers, New Brunswick, NJ.

55. Wilson, Michael, Ph.D., Director, Occupational and Environmental Health Program, Blue Green Alliance, San Francisco, CA.

56. Wise, John, Ph.D., Professor, Department of Entomology, Michigan State University, East Lansing, MI.

57. Wolf, Martin, M.A., Director, Sustainability and Authenticity, Seventh Generation, Inc., Burlington, VT.

58. Wood-Black, Frankie Kay, Ph.D., Principal, Sophic Pursits, Inc., Ponca, OK.

59. Wright, Robert, M.D., M.P.H., Professor of Pediatrics and Preventive Medicine, Icahn School of Medicine-Mount Sinai, New York, NY.

60. Wylie, Ann, Ph.D., Professor of Geology (Emerita), University of Maryland, College Park, MD.

61. Yoon, MiYoung, Ph.D., Senior Research Investigator, ScitoVation, Research Triangle Park, NC.

62. Zhu, Hao, Ph.D., Associate Professor, The Rutgers Center for Computational and Integrative Biology, Rutgers University, New Brunswick, NJ.

63. Zoeller, Robert Thomas, Ph.D., Professor of Biology, University of Massachusetts- Amherst, Amherst, MA.

64. Zota, Ami, Sc.D., M.S., Assistant Professor, Environmental and Occupational Health, George Washington University, Washington, DC.

Authority: 15 U.S.C. 2625 et seq.; 5 U.S.C. Appendix 2 et seq.

Dated: July 28, 2017.
Louise P. Wise,
Acting Assistant Administrator, Office of Chemical Safety and Pollution Prevention.

[FR Doc. 2017-16385 Filed 8-2-17; 8:45 am]

BILLING CODE 6560-50-P